DEPARTMENT OF HOUSING AND URBAN DEVELOPMENT

[Docket No. FR-6550-N-01]

Rescission of Office of the Assistant Secretary for Public and Indian Housing; Voter Registration Notice

AGENCY: Office of the Assistant Secretary for Public and Indian Housing, U.S. Department of Housing and Urban Development (HUD).

ACTION: Notification of rescission.

SUMMARY: The Department of Housing and Urban Development announces that it is rescinding a March 7, 1996, Federal Register notice that provided guidance on efforts by Public Housing Agencies to promote voter registration in Public and Indian Housing.

DATES: Effective Date: July 2, 2025.

FOR FURTHER INFORMATION CONTACT: Nicholas Bilka, Office of Policy, Programs, and Legislative Initiatives, Department of Housing and Urban Development, 451 Seventh Street SW, Room 3178, Washington, DC 20410. Telephone number (202) 402-5449 (This is not a toll-free number.) HUD welcomes and is prepared to receive calls from individuals who are deaf or hard of hearing, as well as from individuals with speech or communication disabilities. To learn more about how to make an accessible telephone call, please visit https://www.fcc.gov/consumers/guides/telecommunications-relay-service-trs.

SUPPLEMENTARY INFORMATION: On March 7, 1996, HUD published a guidance document in the Federal Register entitled “Office of the Assistant Secretary for Public and Indian Housing; Voter Registration Notice” (61 FR 9190). This Notice rescinds the March 7, 1996, notice in its entirety, effective immediately.

Benjamin Hobbs,
Principal Deputy Assistant Secretary, Public and Indian Housing.

[FR Doc. 2025-12298 Filed 7-1-25; 8:45 am]

BILLING CODE 4210-67-P